DEPARTMENT OF THE TREASURY

Internal Revenue Service

Open Meeting of the Taxpayer Advocacy Panel Taxpayer Communications Project Committee; Correction

AGENCY: Internal Revenue Service (IRS) Treasury.

ACTION: Notice of meeting; correction.

SUMMARY: In the Federal Register notice that was originally published on December 10, 2014, (Volume 79, Number 237, Page 73404) the meeting location was inadvertently omitted. The location of the meeting is: Albuquerque, New Mexico.

DATES: The meeting will be held Thursday, January 15, 2015, through Friday, January 16, 2015.

FOR FURTHER INFORMATION CONTACT: Lisa Billups at 1-888-912-1227 or (214) 413-6523.

SUPPLEMENTARY INFORMATION: Notice is hereby given pursuant to Section 10(a)(2) of the Federal Advisory Committee Act, 5 U.S.C. App. (1988) that an open meeting of the Taxpayer Advocacy Panel Taxpayer Communications Project Committee will be held Thursday, January 15, 2015, from 8:00 a.m. to 4:30 p.m., and Friday, January 16, 2015, from 8:00 a.m. to 12:00 p.m. Mountain Time in Albuquerque, New Mexico. The public is invited to make oral comments or submit written statements for consideration. Notification of intent to participate must be made with Lisa Billups. For more information please contact: Lisa Billups at 1-888-912-1227 or 214-413-6523, or write TAP Office 1114 Commerce Street, Dallas, TX 75242-1021, or post comments to the Web site: http://www.improveirs.org.

The committee will be discussing various issues related to Taxpayer Communications and public input is welcome.

Dated: December 16, 2014.
Otis Simpson,
Acting Director, Taxpayer Advocacy Panel.

[FR Doc. 2014-29935 Filed 12-22-14; 8:45 am]

BILLING CODE 4830-01-P